DEPARTMENT OF TRANSPORTATION

Federal Aviation Administration

[Docket No. FAA-2023-1486]

Agency Information Collection Activities: Requests for Comments; Clearance of 2120-0026 Approval of Information Collection: Domestic and International Flight Plans

AGENCY: Federal Aviation Administration (FAA), DOT.

ACTION: Notice and request for comments.

SUMMARY: In accordance with the Paperwork Reduction Act of 1995, FAA invites public comments about our intention to request the Office of Management and Budget (OMB) approval to renew information collection. The Federal Register Notice with a 60-day comment period soliciting comments on the following collection of information was published on July 5, 2023. The collection involves extracting flight data such as aircraft, routing speed, etc. from domestic and international flights. FAA Form 7233-1, Flight Plan: Domestic flight plan information is used to govern the flight of aircraft for the protection and identification of aircraft and property and persons on the ground. The information is used by air traffic controllers, search and rescue (SAR) personnel, flight standards inspectors, accident investigators, military, law enforcement, and the Department of Homeland Security.

DATES: Written comments should be submitted by October 25, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Aldwin Humphrey by email at: aldwin.humphrey@faa.gov, phone: 703-786-9859

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0026.

Title: Domestic and International Flight Plans.

Form Numbers: FAA form7233-1 Domestic Flight Plan, FAA form 7233-4 International Flight Plan.

Type of Review: Renewal of information collection.

Background: The Federal Register Notice with a 60-day comment period soliciting comments on the following collection of information was published on July 5, 2023 (88 FR 42998). The Federal Aviation Administration (FAA) is authorized and directed by Title 49, United States Code, paragraph 40103(b), to prescribe air traffic rules and regulations governing the flight of aircraft for the protection and identification of aircraft and property and persons on the ground. Title 14, CFR, part 91, subchapter F, prescribes flight rules governing the operation of aircraft within the United States. These rules govern the operation of aircraft (other than moored balloons, kites, unmanned rockets and unmanned free balloons) within the United States and for flights across international borders. Paragraphs 91.153 and 91.169, address flight plan information requirements. Paragraph 91.173 states requirements for when an instrument flight rules (IFR) flight plan must be filed. International Standards Rules of the Air, Annex 2 to the Convention on International Civil Aviation paragraph 3.3 states requirements for filing international flight plans. In addition, a Washington, District of Columbia (DC) Special Flight Rules Area (SFRA) was implemented requiring pilots operating within a certain radius of Washington, DC to follow special security flight rules. The SFRA also includes three (3) general aviation airports in Maryland (College Park, Clinton/Washington Executive/Hyde Field, and Friendly/Potomac Airfield) where pilots are required to file a flight plan regardless of whether they are flying under visual flight rules (VFR) or IFR. This collection of information supports the Department of Homeland Security and the Department of Defense in addition to the normal flight plan purposes.

Almost 100 percent of flight plans are filed electronically. However, as a courtesy to the aviation public, flight plans may be submitted in paper form. Flight plans may be filed in the following ways:

• Air carrier and air taxi operations, and certain corporate aviation departments, have been granted authority to electronically file flight plans directly with the FAA. The majority of air carrier and air taxi flights are processed in this manner.

• Air carrier and air taxi operators may submit pre-stored flight plan information on scheduled flights to Air Route Traffic Control Centers (ARTCC) to be entered electronically at the appropriate times.

• Pilots may call 1-800-WX-BRIEF (992-7433) and file flight plans with a flight service station specialist who enters the information directly into a computer system that automatically transmits the information to the appropriate air traffic facility. Pilots calling certain flight service stations have the option of using a voice recorder to store the information that will later be entered by a specialist.

• Private and corporate pilots who fly the same aircraft and routes at regular times may prestore flight plans with flight service stations. The flight plans will then be entered automatically into the air traffic system at the appropriate time.

• Pilots who visit a flight service station in person may choose to a file flight plan by using a paper form. The data will then be entered into a computer and filed electronically. The pilot will often keep the paper copy for his/her record.

Respondents: Air carrier and air taxi operations, and certain corporate aviation departments, General Aviation Pilots.

Frequency: On occasion.

Estimated Average Burden per Response: 2.5 minutes per flight plan.

Estimated Total Annual Burden: 287,447.

Issued in Washington, DC, on September 19, 2023.
Aldwin E. Humphrey,
Air Traffic Control Specialist, Office of Flight Service Safety and Operations, AJR-B.

[FR Doc. 2023-20696 Filed 9-22-23; 8:45 am]

BILLING CODE 4910-13-P